FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted May 1, 2011 thru May 31, 2011
ET date | Trans. No. | ET req. status | Party name
05/02/2011 | 20110740 | G | API Technologies Corp.; Spectrum Control, Inc.; API Technologies Corp.
| 20110764 | G | West Corporation; Smoothstone IP Communications Corporation; West Corporation.
| 20110766 | G | TPG Star, L.P.; Abbas Yazdani; TPG Star, L.P.
| 20110768 | G | AEA Investors 2006 Fund L.P.; Cogent Healthcare, Inc.; AEA Investors 2006 Fund L.P.
| 20110785 | G | EQT Infrastructure (No.1) LP; Parthenon Investors II, L.P.; EQT Infrastructure (No.1) LP.
| 20110787 | G | Tom Gores; WMD Family Trust, dated May 6, 2002; Tom Gores.
| 20110794 | G | Chesapeake Energy Corporation; Bronco Drilling Company, Inc.; Chesapeake Energy Corporation.
05/03/2011 | 20110790 | G | Endo Pharmaceuticals Holdings Inc.; American Medical Systems Holdings, Inc.; Endo Pharmaceuticals Holdings Inc.
05/04/2011 | 20110642 | G | Valitas Equity LLC; America Service Group, Inc.; Valitas Equity LLC.
| 20110755 | G | Meda AB (publ); Novartis AG; Meda AB (publ).
| 20110763 | G | Mr. Vincent Viola; Madison Tyler Holdings, LLC; Mr. Vincent Viola.
| 20110781 | G | AmSurg Corp.; National Surgical Care, Inc.; AmSurg Corp.
05/05/2011 | 20110220 | G | James A. Perdue; Coleman Natural Foods, L.L.C.; James A. Perdue.
| 20110789 | G | Baxter International Inc.; Essex Woodlands Health Ventures Fund Vi, L.P.; Baxter International Inc.
| 20110792 | G | SCF-VI, L.P.; NEWCO; SCF-VI, L.P.
| 20110793 | G | SCF-VII, L.P.; NEWCO; SCF-VII, L.P.
05/06/2011 | 20110797 | G | Alliance Data Systems Corporation; D.E. Shaw Composite International Fund; Alliance Data Systems Corporation.
| 20110798 | G | CCMP Capital Investors II, L.P.; August Troendle; CCMP Capital Investors II, L.P.
| 20110803 | G | The Hanover Insurance Group, Inc.; Chaucer Holdings PLC; The Hanover Insurance Group, Inc.
| 20110805 | G | Marathon Oil Corporation; William J. McEnery; Marathon Oil Corporation.
05/09/2011 | 20110810 | G | American Securities Partners V. L.P.; SCSG EA Acquisition Company, Inc.; American Securities Partners V. L.P.
| 20110812 | G | Total S.A.; SunPower Corporation; Total S.A.
05/10/2011 | 20110808 | G | URS Corporation; New Mountain Partners, L.P.; URS Corporation.
05/12/2011 | 20110680 | G | The Hearst Family Trust; Lagardere SCA; The Hearst Family Trust.
| 20110778 | G | Baker Brothers Life Sciences, L.P.; Genomic Health, Inc.; Baker Brothers Life Sciences, LP.
| 20110784 | G | Leeds Equity Partners V, L.P.; 2003 TIL Settlement; Leeds Equity Partners V, L.P.
05/13/2011 | 20110813 | G | Stefan Quandt; DataCard Corporation; Stefan Quandt.
| 20110819 | G | Wolters Kluwer N,V.; Robert D. Kescher; Wolters Kluwer N,V.
05/17/2011 | 20110824 | G | RadiSys Corporation; Continuous Computing Corporation; RadiSys Corporation.
| 20110825 | G | Thoma Bravo Fund IX, L.P.; Tripwire, Inc.; Thoma Bravo Fund IX, L.P.
| 20110827 | G | General Mills, Inc.; Sodiaal Union; General Mills, Inc.
| 20110829 | G | Ag Real Value Fund, LLC; Charlesbank Equity Fund V, L.P.; Ag Real Value Fund, LLC.
| 20110833 | G | General Mills, Inc.; PAI Europe III-B FCPR; General Mills, Inc.
| 20110844 | G | Monex Group, Inc.; TradeStation Group, Inc.; Monex Group, Inc.
| 20110845 | G | The Williams Companies, Inc.; BP p.l.c.; The Williams Companies, Inc.
05/18/2011 | 20110832 | G | STG III, L.P.; The Edward W. Scripps Trust; STG III, L.P.
| 20110847 | G | Silver Lake Partners III Cayman (AIV III), L.P.; Smart Modular Technologies (WWH), Inc.; Silver Lake Partners III Cayman (MV III), L.P.
05/19/2011 | 20110796 | G | Centerbridge Capital Partners II, L.P.; ValueAct Capital Master Fund, L.P.; Centerbridge Capital Partners II, L.P.
| 20110802 | G | General Electric Company; Applied Precision, Inc.; General Electric Company.
| 20110821 | G | Valero Energy Corporation; Chevron Corporation; Valero Energy Corporation.
| 20110834 | G | Trinity Health Corporation; Loyola University of Chicago; Trinity Health Corporation.
| 20110835 | G | Auto Club Insurance Association; Fremont Michigan InsuraCorp., Inc.; Auto Club Insurance Association.
05/20/2011 | 20110826 | G | Toshiba Corporation; Vital Images, Inc.; Toshiba Corporation.
| 20110836 | G | NANA Regional Corporation, Inc.; Huntsman Gay Capital Partners Fund, L.P.; NANA Regional Corporation, Inc.
| 20110838 | G | Sara Lee Corporation; Encore Consumer Capital Fund, L.P.; Sara Lee Corporation.
| 20110843 | G | Oak Hill Capital Partners III, L.P.; Intermedia.net, Inc.; Oak Hill Capital Partners III, L.P.
| 20110848 | G | Roark Capital Partners II, LP; Bruckmann, Rosser, Sherrill & Co. II, L.P.; Roark Capital Partners II, LP.
| 20110851 | G | Legrand S.A.; Robert J. Schluter; Legrand S.A.
| 20110861 | G | Samick Musical Instruments Co., Ltd.; Steinway Musical Instruments, Inc.; Samick Musical Instruments Co., Ltd.
| 20110863 | G | SuccessFactors, Inc.; Plateau Systems, Ltd.; SuccessFactors, Inc.
| 20110866 | G | Yukon Holdco Inc.; Husky International Ltd.; Yukon Holdco Inc.
05/23/2011 | 20110831 | G | Aetna Inc.; JPMorgan Chase & Co.; Aetna Inc.
| 20110868 | G | Rambus, Inc.; Paul Kocher; Rambus, Inc.
| 20110871 | G | Avista Capital Partners II, L.P.; Brandon W. Freeman; Avista Capital Partners II, L.P.
| 20110872 | G | Francois Pinault; Volcom, Inc.; Francois Pinault.
05/24/2011 | 20110828 | G | Golden Gate Capital Opportunity Fund, L.P.; Lawson Software, Inc.; Golden Gate Capital Opportunity Fund, L.P.
| 20110852 | G | High Sierra Energy, LP; Marcum Midstream 1995-2 Business Trust; High Sierra Energy, LP.
| 20110869 | G | Cerberus International, Ltd.; Scottish Re Group Limited; Cerberus International, Ltd.
05/25/2011 | 20110849 | G | Actuant Corporation; American Securities Partners III, L.P.; Actuant Corporation.
05/26/2011 | 20110811 | G | Pearson plc; Schoolnet, Inc.; Pearson plc.
05/27/2011 | 20110816 | G | Solera Holdings, Inc.; Providence Equity Partners VI L.P.; Solera Holdings, Inc.
| 20110859 | G | Welsh, Carson, Anderson & Stowe IX, L.P.; MedCath Corporation; Welsh, Carson, Anderson & Stowe IX, L.P
| 20110884 | G | INC Research Holdings, Inc.; Kendle International Inc.; INC Research Holdings, Inc.
| 20110885 | G | Onex Partners III LP; JELD-WEN Holding, inc.; Onex Partners III LP.
| 20110886 | G | Gerald W. Schwartz; JELD-WEN HOLDING, Inc.; Gerald W. Schwartz.
| 20110888 | G | Avista Capital Partners II L.P.; Aurora Equity Partners II L.P.; Avista Capital Partners II, L.P.
| 20110889 | G | Apollo Investment Fund VII, L.P.; CKx, Inc.; Apollo Investment Fund VII, L.P.
| 20110892 | G | Autonomy Corporation plc; Iron Mountain Incorporated; Autonomy Corporation plc.
| 20110893 | G | Charlesbank Equity Fund VII, Limited Partnership; DEI Holdings, Inc.; Charlesbank Equity Fund VII, Limited Partnership.
| 20110894 | G | Olympic Steel, Inc.; Chicago Tube & Iron Company; Olympic Steel, Inc.
| 20110895 | G | Oak Investment Partners XII, L.P.; The FRS Company; Oak Investment Partners XII, L.P.
| 20110906 | G | Mr. Leonard Blavatnik; Warner Music Group Corp.; Mr. Leonard Blavatnik.
| 20110907 | G | Northern Trust Corporation; Kenneth C. Griffin; Northern Trust Corporation.
| 20110909 | G | Houston Baseball Partners LLC; Robert Drayton McLane, Jr.; Houston Baseball Partners LLC.

FOR FURTHER INFORMATION CONTACT: Sandra M. Peay, Contact Representative, or Renee Chapman, Contact Representative.

Federal Trade Commission, Premerger Notification Office, Bureau of Competition, Room H-303, Washington, DC 20580, (202) 326-3100.

By Direction of the Commission.
Donald S. Clark,
Secretary.

[FR Doc. 2011-14103 Filed 6-8-11; 8:45 am]

BILLING CODE 6750-01-M